ENVIRONMENTAL PROTECTION AGENCY

40 CFR Part 312

[FRL-7472-3]

RIN 2050-AF05

Clarification to Interim Standards and Practices for All Appropriate Inquiry Under CERCLA and Notice of Future Rulemaking Action

AGENCY: Environmental Protection Agency (EPA).

ACTION: Withdrawal of direct final rule.

SUMMARY: On January 24, 2003, we published a direct final rule entitled “Clarification to Interim Standards and Practices for All Appropriate Inquiry Under CERCLA and Notice of Future Rulemaking Action” (68 FR 3430). We published the direct final rule to clarify a provision included in recent amendments to the Comprehensive Environmental Response, Compensation, and Liability Act (CERCLA). Specifically, the direct final rule addressed the interim standard set by Congress in the Small Business Liability Relief and Brownfields Revitalization Act (“the Brownfields Law”) for conducting “all appropriate inquiry.” We stated in the direct final rule that if we received adverse comment by February 24, 2003, we would publish a timely withdrawal in the Federal Register. We subsequently received adverse comment on the direct final rule, and therefore are withdrawing the direct final rule. We will address those comments in a subsequent final action on the parallel proposed rule also published on January 24, 2003 (68 FR 3478). As stated in the parallel proposed rule, we will not institute a second comment period on this action.

DATES: As of March 25, 2003, EPA withdraws the direct final rule “Clarification to Interim Standards and Practices for All Appropriate Inquiry Under CERCLA and Notice of Future Rulemaking Action” published at 68 FR 3430, on January 24, 2003.

FOR FURTHER INFORMATION CONTACT: For general information, contact the RCRA/CERCLA Call Center at 800-424-9346 or TDD 800-553-7672 (hearing impaired). In the Washington, DC metropolitan area, call 703-412-9810 or TDD 703-412-3323.

For more detailed information on specific aspects of this rule, contact Patricia Overmeyer, Office of Brownfields Clean up and Redevelopment (5105T), U.S. Environmental Protection Agency, 1200 Pennsylvania Avenue, NW., Washington, DC 20460-0002, 202-566-2774, overmeyer.patricia@epa.gov.

SUPPLEMENTARY INFORMATION:

General Information

EPA established an official public docket for the direct final rule and its companion proposed rule under Docket ID No. SFUND-2002-0007. The official public docket consists of the documents specifically referenced in the direct final rule, the comments received by the Agency in response to the proposed rule, and other information related to the proposed and direct final rules. Although a part of the official docket, the public docket does not include Confidential Business Information (CBI) or other information whose disclosure is restricted by statute. The official public docket is the collection of materials that is available for public viewing at the EPA Docket Center located at 1301 Constitution Ave., NW., Washington, DC 20004. This Docket Facility is open from 8:30 a.m. to 4:30 p.m., Monday through Friday, excluding federal holidays. To review docket materials, it is recommended that the public make an appointment by calling (202) 566-0276. The public may copy a maximum of 100 pages from any regulatory docket at no charge. Additional copies cost $0.15/page.

Summary of Today's Action

EPA published a direct final rule on January 24, 2003, clarifying the interim standard for all appropriate inquiry established in the Small Business Liability Relief and Brownfields Revitalization Act for bona fide prospective purchasers, contiguous property owners, and those parties wishing to establish an innocent landowner defense under CERCLA. The direct final rule stated that such property owners or prospective purchasers could use the current version of ASTM standard E1527 (i.e., E1527-00) for conducting all appropriate inquiry as provided in CERCLA section 101(35)(B) for properties purchased on or after May 31, 1997. In addition, the direct final rule stated that ASTM's previous standard, E1527-97, could be used for conducting all appropriate inquiry. ASTM's E1527-97 standard, entitled “Standard Practice for Environmental Site Assessment: Phase I Environmental Site Assessment Process,” is the interim standard included by Congress in the Small Business Liability Relief and Brownfields Revitalization Act.

The companion proposed rule, also published on January 24, 2003, invited comment on the direct final rule and stated that if adverse comment was received by February 24, 2003, the direct final rule would not become effective and a notice would be published in the Federal Register to withdraw the direct final rule before the March 25, 2003, effective date. EPA subsequently received adverse comment on the direct final rule. EPA plans to address those comments in a subsequent action. Today's action withdraws the direct final rule “Clarification to Interim Standards and Practices for All Appropriate Inquiry Under CERCLA and Notice of Future Rulemaking Action.”

List of Subjects in 40 CFR Part 312

Environmental protection, Administrative practice and procedure, Hazardous substances.

Dated: March 18, 2003.
Christine Todd Whitman,
Administrator.

[FR Doc. 03-7050 Filed 3-24-03; 8:45 am]

BILLING CODE 6560-50-P